DEPARTMENT OF THE INTERIOR

Bureau of Ocean Energy Management

[BOEM-2015-0016]

Revised Environmental Assessment for Virginia Offshore Wind Technology Advancement Project on the Atlantic Outer Continental Shelf Offshore Virginia; MMAA104000

AGENCY: Bureau of Ocean Energy Management (BOEM), Interior.

ACTION: Notice of Availability of a Revised Environmental Assessment and a Finding of No Significant Impact.

SUMMARY: BOEM is announcing the availability of a revised Environmental Assessment (EA) and Finding of No Significant Impact (FONSI) for the approval of the Virginia Offshore Wind Technology Advancement Project (VOWTAP). The revised EA provides a discussion of potential impacts of the proposed action and an analysis of reasonable alternatives to the proposed action. As a result of the analysis in the revised EA, BOEM issued a FONSI concluding that the reasonably foreseeable environmental impacts associated with the proposed action and alternatives would not significantly impact the quality of the human environment. These documents and associated information are available on BOEM's Web site at http://www.boem.gov/VOWTAP/.

FOR FURTHER INFORMATION CONTACT: Michelle Morin, BOEM Office of Renewable Energy Programs, 45600 Woodland Road, Sterling, Virginia 20166, (703) 787-1340 or michelle.morin@boem.gov.

SUPPLEMENTARY INFORMATION: In December 2014, BOEM published an EA to consider the reasonably foreseeable environmental consequences associated with the approval of wind energy-related research activities (i.e., construction, operation, maintenance, and eventual decommissioning of the VOWTAP) offshore Virginia as proposed by the Commonwealth of Virginia's Department of Mines, Minerals, and Energy (DMME). A Notice of Availability was published on December 2, 2014 to announce the availability of the EA and initiate a 30-day public comment period. On January 2, 2015, BOEM published a Federal Register notice extending the comment period until January 16, 2015. The EA was subsequently revised based on comments received during the comment period and a public information meeting. The revised EA provides technical clarification, such as the type of aviation safety lights that would be installed on the turbines, and the parameters used in the avian collision model. Also the revised EA provides additional information detailing the vegetation and land cover of the onshore impact area associated with cable installation and seasonal prohibitions for North Atlantic right whales. In addition to the proposed action, the revised EA considers the same alternative turbine locations considered in the December 2014 EA. BOEM's analysis of the proposed action and alternatives still takes into account standard operating conditions designed to avoid or minimize potential impacts to protected species of marine mammals and sea turtles, including: (1) Those required during all project activity associated with the VOWTAP (vessel strike avoidance, marine debris awareness, and reporting); (2) those required during high-resolution geophysical surveys (establishment, monitoring and clearance of an exclusion zone; and shutdown, ramp up, power down, and pause procedures); (3) those required during pile driving (establishment, monitoring and clearance of an exclusion zone; prohibition on pile driving from November 1 to April 30 and within an active Dynamic Management Area; and soft start and shut down, and pause procedures); and (4) those required during dynamic positioning thruster use (establishment and monitoring of an exclusion zone, and ramp up and power down procedures). In accordance with the requirements of the National Environmental Policy Act (NEPA) and the Council on Environmental Quality's (CEQ) regulations implementing NEPA at 40 CFR 1500-1508, BOEM issued a FONSI supported by the analysis in the revised EA. The FONSI concluded that the reasonably foreseeable environmental impacts associated with the proposed action and alternatives, as set forth in the EA, would not significantly impact the quality of the human environment; therefore, the preparation of an Environmental Impact Statement is not required.

Authority: This Notice of Availability for an EA is in compliance with the National Environmental Policy Act of 1969, as amended (42 U.S.C. 4231 et seq.), and is published pursuant to 43 CFR 46.305.

Dated: June 22, 2015.
Abigail Ross Hopper,
Director, Bureau of Ocean Energy Management.

Editorial Note: The Office of the Federal Register received this document on September 22, 2015.

[FR Doc. 2015-24408 Filed 9-28-15; 8:45 am]

BILLING CODE 4310-MR-P